DEPARTMENT OF TRANSPORTATION

Federal Aviation Administration

14 CFR Part 25

[Docket No. FAA-2010-1175; Amdt. No. 25-137]

RIN 2120-AJ83

Installed Systems and Equipment for Use by the Flightcrew; Correction

AGENCY: Federal Aviation Administration (FAA), DOT.

ACTION: Final rule; corrections.

SUMMARY: The Federal Aviation Administration (FAA) published in the Federal Register of May 3, 2013 a document amending the design requirements in the airworthiness standards for transport category airplanes to minimize the occurrence of design-related flightcrew errors. This document corrects an inadvertent amendment number that appears in the heading of the publication of that final rule.

DATES: This correction is effective April 18, 2014.

FOR FURTHER INFORMATION CONTACT: Ralen Gao, Office of Rulemaking, ARM-209, Federal Aviation Administration, 800 Independence Avenue SW., Washington, DC 20591; telephone (202) 267-3168; fax (202) 267-5075; email ralen.gao@faa.gov.

SUPPLEMENTARY INFORMATION: The FAA published a final rule in the Federal Register of May 3, 2013 (78 FR 25840), amending the design requirements in the airworthiness standards for transport category airplanes to minimize the occurrence of design-related flightcrew errors. This document corrects an inadvertent amendment number that appears in the heading of the publication of that final rule.

In FR Doc. 2013-10554, beginning on page 25840 in the Federal Register of May 3, 2013, make the following correction:

On page 25840, in the first column heading, change the amendment number from “25-138” to “25-137”.

Issued in Washington, DC, on April 10, 2014.
Lirio Liu,
Director, Office of Rulemaking.

[FR Doc. 2014-08565 Filed 4-17-14; 8:45 am]

BILLING CODE 4910-13-P